DEPARTMENT OF TRANSPORTATION

Federal Motor Carrier Safety Administration

49 CFR Part 391

Qualifications of Drivers and Longer Combination Vehicle (LCV) Driver Instructors

CFR Correction

In Title 49 of the Code of Federal Regulations, Parts 300 to 399, revised as of October 1, 2014, on pages 394 and 395, in § 391.2, in paragraphs (a) introductory text, (b), and (c), “(fg)” is revised to read “(f)”.

[FR Doc. 2015-20046 Filed 8-13-15; 8:45 am]

BILLING CODE 1505-01-D